DEPARTMENT OF LABOR

Employment and Training Administration

Comment Request for Information Collection for Job Corps Application Data (Job Corps Enrollee Allotment Determination, Extension Without Revisions)

AGENCY: Employment and Training Administration (ETA), Labor.

ACTION: Notice.

SUMMARY: The Department of Labor, as part of its continuing effort to reduce paperwork and respondent burden, conducts a pre-clearance consultation program to provide the general public and federal agencies with an opportunity to comment on proposed and/or continuing collection of information in accordance with the Paperwork Reduction Act of 1995 (PRA95) [44 U.S.C. 3506(c)(2)(A)].

This program helps to ensure that requested data can be provided in the desired format, reporting burden (time and financial resources) is minimized, collection instruments are clearly understood, and the impact of collection requirements on respondents can be properly assessed. Currently, ETA is soliciting comments regarding the collection of data about OMB 1205-0030 (January 31, 2014).

DATES: Written comments must be submitted to the office listed in the addressee's section below on or before October 15, 2013.

ADDRESSES: Submit written comments to Linda Estep, Office of Job Corps Room N4507 Employment and Training Administration, 200 Constitution Avenue NW., Washington, DC 20210. Telephone number: 888-886-1303 ext. 7212 (this is a toll-free number). Fax: 202-693-2764; email: estep.linda@dol.gov.

SUPPLEMENTARY INFORMATION:

I. Background

Job Corps is the nation's largest residential educational and career technical training program for young Americans. Job Corps was established in 1964 by the Economic Opportunity Act, and currently is authorized by Title I-C of the Workforce Investment Act of 1998. For almost 50 years, Job Corps has helped prepare nearly three million at-risk young people, ages 16 to 24, for success in our nation's workforce. With 125 centers in 48 states, Puerto Rico, and the District of Columbia, Job Corps assists students across the nation in attaining academic credentials, including a High School Diploma (HSD) and/or General Educational Development (GED), and career technical training credentials, including industry-recognized certifications, state licensures, and pre-apprenticeship credentials.

Job Corps is administered by the U.S. Department of Labor (DOL) through the Office of Job Corps and six Regional Offices. DOL awards and administers contracts for the recruiting and screening of new students, center operations, and the placement and transitional support of graduates and former enrollees. Large and small corporations and nonprofit organizations manage and operate 97 Job Corps centers under contractual agreements with DOL.

These contract Center Operators are selected through a competitive procurement process that evaluates potential operators' technical expertise, proposed costs, past performance, and other factors, in accordance with the Competition in Contracting Act and the Federal Acquisition Regulations. The remaining 28 Job Corps centers, called Civilian Conservation Centers, are operated by the U.S. Department of Agriculture Forest Service, via an interagency agreement. The DOL has a direct role in the operation of Job Corps, and does not serve as a pass-through agency for this program.

II. Review Focus

The Department of Labor is particularly interested in comments which:

• Evaluate whether the proposed collection of information is necessary for the proper performance of the agency's functions, including whether the information has practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Job Corps Enrollee Allotment Determination.

OMB Number: Existing number OMB 1205-0030.

Affected Public: Individuals or households, Federal Government.

Form(s): ETA 658.

Total Annual Responses: 1,749.

Average Time per Response: 3 minutes.

Estimated Total Annual Burden Hours: 87.5 hours.

Total Annual Burden Cost for Respondents: $450.62.

The purpose of this collection is to provide a vehicle to make allotments available to students who desire an allotment and have a qualifying dependent. This is completed by the Job Corps Admissions Counselors or center staff, and signed by the student during a personal interview.

Comments submitted in response to this request will be summarized and/or included in the request for Office of Management and Budget approval of the information collection request; they will also become a matter of public record.

Dated: July 31, 2013.
Eric M. Seleznow,
Acting Assistant Secretary for Employment and Training, Labor.

[FR Doc. 2013-19698 Filed 8-13-13; 8:45 am]

BILLING CODE 4510-FT-P